DEPARTMENT OF HEALTH AND HUMAN SERVICES

National Institutes of Health

Center for Scientific Review; Amended Notice of Meeting

Notice is hereby given of a change in the meeting of the Center for Scientific Review Special Emphasis Panel, Community-Level Health Promotion: Prevention and Intervention, October 22, 2013, 1:00 p.m. to October 22, 2013, 5:00 p.m., Hyatt Regency Bethesda, One Bethesda Metro Center, 7400 Wisconsin Avenue, Bethesda, MD 20814 which was published in the Federal Register on October 1, 2013, 78 FR 190, Pgs. 60294-60296.

The meeting will start on November 25, 2013 at 4:00 p.m. and end on November 25, 2013 at 6:30 p.m. The meeting location remains the same. The meeting is closed to the public.

Dated: October 25, 2013.
Anna Snouffer,
Deputy Director, Office of Federal Advisory Committee Policy.

[FR Doc. 2013-25889 Filed 10-30-13; 8:45 am]

BILLING CODE 4140-01-P